DEPARTMENT OF JUSTICE

Notice of Filing of Environmental Settlement in Re Fruit of the Loom, Inc.

Notice is hereby given that a proposed settlement entered into by the United States on behalf of the U.S. EPA, Department of Interior, National Oceanic and Atmospheric Administration of the Department of Commerce, and the Nuclear Regulatory Commission, the States of Illinois, Michigan, New Jersey, and Tennessee, Debtors Fruit of the Loom, Inc. and NWI Land Management Corp., and Velsicol Chemical Corporation and True Specialty Corporation was filed on April 17, 2002 in In re Fruit of the Loom, Inc., No. 99-4497(PJW) with the United States Bankruptcy Court for the District of Delaware. The proposed settlement would resolve certain claims of the Governmental Parties against the settling parties under the Comprehensive Environmental Response Compensation and Liability Act, 42 U.S.C. 9601 et seq., Section .7003 of the Resource Conservation and Recovery Act (“RCRA”), 42 U.S.C. 6973, and the Atomic Energy Act, 42 U.S.C. 2001 et seq., relating to the St. Louis Facility in St. Louis, Michigan, the Breckenridge Facility in St. Louis/Breckenridge, Michigan; the Residue Hill Facility in Chattanooga, Tennessee; the Hardeman County Landfill Facility in Toone, Tennessee; the Hollywood Dump Facility in Memphis, Tennessee; the Marshall 23 Acre Facility in Marshall, Illinois; and the Ventron/Velsicol Chemical/Berry's Creek Facility in Wood-Ridge and Carlstadt, New Jersey, the “Seven Facilities”). Under the settlement, inter alia, the following will be dedicated to fund response action or costs and natural resource damage assessment or restoration for the Seven Facilities: (1) $4,292,808 to be paid in full as an Allowed Administrative Expense; (2) certain future proceeds from general liability insurance claims; (3) certain future recoveries from preferred shares of stock in True specialty Corporation; and (4) certain proceeds from Fruit of the Loom's and Velsicol's “cost cap” and pollution legal liability insurance policies. The settlement also resolves certain claims against the debtors Fruit of the Loom, Inc. and NWI Land Management Corp. (but not Velscol) for other Facilities known as the A&I Facilities, which are listed in Attachment A to the settlement.

The Department of Justice will receive comments relating to the United States' approval of the terms of proposed settlement for 30 days following the publication of this Notice. Comments should be addressed to the Assistant Attorney General of the Environment and Natural Resources Division, Department of Justice, P.O. Box 7611, Ben Franklin Station, Washington, DC 20044, and should refer to In re Fruit of the Loom, Inc., D.J. Ref. No. 90-11-2-07096. Commenters may request an opportunity for a public meeting in the affected area, in accordance with Section 7003(d) of RCRA, 42 U.S.C. 6973(d). Copies of the proposed settlements may be examined at the Office of the United States Attorney for the District of Delaware, 1201 Market Street, Suite 1100, Wilmington, DE, the United States Environmental Protection Agency, Region 2, 290 Broadway, 17th Floor, New York, New York, the United States Environmental Protection Agency, Region 4, 61 Forsyth Street, SW., Atlanta, Georgia, and the United States Environmental Protection Agency, Region 5, 77 West Jackson Blvd., 14th Floor, Chicago, Illinois. Copies of the proposed settlements may also be obtained by request addressed to the Department of Justice Consent Decree Library, P.O. Box 7611, Ben Franklin Station, Washington, DC 20044. In requesting a copy of the proposed settlements, please enclose a check in the amount of $24.75 for (25 cents per page for reproduction costs), payable to the United States Treasurer.

Bruce S. Gelber,
Section Chief, Environmental Enforcement Section, Environment and Natural Resources Division.

[FR Doc. 02-10818 Filed 5-1-02; 8:45 am]

BILLING CODE 4410-15-M